DEPARTMENT OF AGRICULTURE

Forest Service

Information Collection; Qualified Products Lists for Fire Chemicals for Wildland Fire Management

AGENCY: Forest Service, USDA.

ACTION: Notice; request for comment.

SUMMARY: In accordance with the Paperwork Reduction Act of 1995, the Forest Service is seeking comments from all interested individuals and organizations on the extension with no revision of a currently approved information collection, Qualified Products Lists for Fire Chemicals for Wildland Fire Management.

DATES: Comments must be received in writing on or before February 2, 2018 to be assured of consideration. Comments received after that date will be considered to the extent practicable.

ADDRESSES: Comments concerning this notice should be addressed to Dave Haston, Branch Chief, Equipment and Chemicals, USDA Forest Service, National Interagency Fire Center, 3833 S. Development Avenue, Boise, ID 83705.

Comments also may be submitted via facsimile to 208-387-5642 or by email to: dhaston@fs.fed.us.

The public may inspect comments received at the National Interagency Fire Center (NIFC), Jack Wilson Building, in Boise, Idaho, Monday through Friday 10:00 a.m. to 3:00 p.m. Visitors are encouraged to call ahead to 208-387-5348 to facilitate entry to the building.

FOR FURTHER INFORMATION CONTACT: Shirley Zylstra, Missoula Technology and Development Center (MTDC), 406-329-4859, Cecilia Johnson, (MTDC), 406-329-4819, or Dave Haston, NIFC, 208-387-5642. Individuals who use telecommunication devices for the deaf (TDD) may call the Federal Information Relay Service (FIRS) at 1-800-877-8339 twenty-four hours a day, every day of the year, including holidays.

SUPPLEMENTARY INFORMATION: Title: Qualified Products Lists for Fire Chemicals for Wildland Fire Management.

OMB Number: 0596-0182.

Expiration Date of Approval: April 30, 2018.

Type of Request: Extension with no revision.

Abstract: The Forest Service and cooperating wildland firefighting agencies need adequate types and quantities of qualified fire chemical products available to accomplish fire management activities as safely and effectively as possible. To accomplish this objective, the Agency evaluates and pre-approves commercial wildland firefighting chemicals. The Agency is required to submit the formulations to the U.S. Fish and Wildlife Service and NOAA Fisheries during the evaluation process. All products must meet the requirements of specifications identified and maintained by the Wildland Fire Chemical Systems (WFCS) staff at the National Technology & Development Program (Missoula). After a product evaluation has been completed successfully, the product is added to the Qualified Products List (QPL) for the appropriate product type. All Federal procurements of wildland fire chemicals are made from these lists.

To initiate an evaluation, product manufacturers (or authorized suppliers) enter into an agreement with the Forest Service and pay all costs associated with the submission and evaluation of the product. Once the agreement is in place and funds are deposited to cover the associated costs, the manufacturer submits the following information to WFCS:

1. List of the specific ingredients and quantity used to prepare the product;

2. Identification of a specific company as the source of supply for each ingredient;

3. Copies of the Material Safety Data Sheet (MSDS) for the product and for each ingredient used to prepare the product (from the company that supplies that chemical); and

4. Specific mixing requirements and performance information.

Review of the submitted information assures that the product does not contain ingredients meeting the criteria for Chemicals of Concern. Chemicals of Concern are defined as chemicals appearing on one or more of the following lists:

• Agency list of unacceptable ingredients;

• National Toxicology Program (NTP) Annual Report on Carcinogens;

• International Agency for Research on Cancer (IARC) Monographs for Potential Carcinogen;

• Comprehensive Environmental Response, Compensation, and Liability Act (CERCLA) List of Extremely Hazardous Substances and Their Threshold Planning Quantities;

• Resources Conservation and Recovery Act (RCRA), Acutely Hazardous and Toxic Wastes; and

• Emergency Planning and Community Right to Know (EPCRA), Toxic Release Inventory.

A risk assessment, performed at the manufacturer expense, is required. The risk assessment, performed by a third party selected by the Agency, assesses the products and levels of ingredients found in typical applications relative to human and environmental impact.

Each product submitted is tested to determine the mammalian and aquatic toxicity of the product and must meet specific levels of performance to minimize potential risk during firefighting operations. Additional tests are performed to determine the effectiveness of the product to reduce spread rate and intensity of the fire by application directly on or near the fire. A number of product characteristics are measured over the operational performance range of the product to ensure that the product meets the needs of the firefighters in the field.

The collection of this information for each product submission is necessary due to the length of time needed to test the product (18 to 24 months) and the need to ensure that products do not pose a hazard for laboratory personnel during the evaluation prior to purchase and use. This information collection and the product evaluation must be conducted on an ongoing basis to ensure the Agency can solicit and award contracts in a timely manner to provide firefighters with safe and effective wildland fire chemical products.

Estimate of Annual Burden: 4.5 hours.

Type of Respondents: Businesses (manufacturers and suppliers) of fire chemicals for wildland fire management.

Estimated Annual Number of Respondents: 3.

Estimated Annual Number of Responses per Respondent: 3.

Estimated Total Annual Burden on Respondents: 40.5 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record.

Comments will be summarized and included in the submission request toward Office of Management and Budget approval.

Dated: November 13, 2017.
Glenn Casamassa,
Associate Deputy Chief, National Forest System.

[FR Doc. 2017-25963 Filed 12-1-17; 8:45 am]

BILLING CODE 3411-15-P